DEPARTMENT OF HEALTH AND HUMAN SERVICES

Health Resources and Services Administration

Supporting Healthy Start Performance Project

AGENCY: Health Resources and Services Administration (HRSA), Department of Health and Human Services.

ACTION: Announcing period of performance supplement for the Supporting Healthy Start Performance Project (SHSPP) recipient.

SUMMARY: HRSA will provide supplemental award funds to the current SHSPP recipient, in fiscal year 2023 to provide new and continued support to Healthy Start grant recipients.

FOR FURTHER INFORMATION CONTACT: Rochelle Logan, Healthy Start Team lead, Division of Healthy Start and Perinatal Services, Maternal and Child Health Bureau, Health Resources and Services Administration, at rlogan@hrsa.gov or (301) 443-0543.

SUPPLEMENTARY INFORMATION:

Amount of Non-Competitive Award(s): One award for $1,900,000.

Project Period: June 1, 2023, to May 31, 2024.

Assistance Listing (CFDA) Number: 93.926.

Award Instrument: Supplement.

Authority: 42 U.S.C. 254c-8 (title III, section 330H of the Public Health Service Act).

Table 1—Recipients and Award Amounts
Grant No. | Award recipient name | City, state | Award amount
UF5MC32750 | National Institute for Children's Health Quality | Boston, MA | $1,900,000

Justification: HRSA will provide supplemental award funds to the current SHSPP recipient in fiscal year 2023 to provide new and continued support to Healthy Start grant recipients. The current recipient of the SHSPP is best positioned to address the objectives that to be supported by the supplemental funds, including supporting data collection and evaluation and implementing applicable Executive Orders.

Carole Johnson,
Administrator.

[FR Doc. 2023-18798 Filed 8-30-23; 8:45 am]

BILLING CODE 4165-15-P